DEPARTMENT OF HEALTH AND HUMAN SERVICES

Administration for Children and Families

Submission for OMB Review; Comment Request

Title: Permanency Innovations Initiative (PII) Evaluation: Phase 1.

OMB No.: New Collection.

Description: The Administration for Children and Families (ACF), U.S. Department of Health and Human Services (HHS) intends to collect data for an evaluation of the Permanency Innovations Initiative (PII). This 5-year initiative, funded by the Children's Bureau (CB) within ACF, is intended to build the evidence base for innovative interventions that enhance well-being and improve permanency outcomes for particular groups of children and youth who are at risk for long-term foster care and who experience the most serious barriers to timely permanency.

The CB has funded six grantees to identify local barriers to permanent placement and implement innovative strategies that mitigate or eliminate those barriers and reduce the likelihood that children will remain in foster care for three years or longer. The first year of the initiative focused on clarifying grantees' target populations and intervention programs. In addition, evaluation plans were developed to support rigorous site-specific and cross-site studies to document the implementation and effectiveness of the grantees' projects and the initiative overall.

Data collection for the PII evaluation includes a number of components being launched at different points in time. The purpose of the current document is to request approval of data collection efforts needed for a first phase of data collection and to request a waiver for subsequent 60 day notices for later components of the evaluation. The first phase includes data collection for a cross-site implementation study and site-specific impact evaluations in two PIT grantee sites (Kansas; Washoe County, Nevada) that will begin implementing interventions during the second year of the PII grant period. The second phase includes a cross-site cost evaluation and site-specific impact evaluations in four PII grantee sites expected to implement interventions in the third year of the PII grant period.

Data for the cross-site implementation study will be collected through: (1) Interviews with grantee staff and key informants conducted by telephone and during site visits; (2) web-based instruments completed by grantee staff and key informants; and (3) retrieval and submission of aggregate data from grantee data systems. Data for the Kansas impact evaluation will be collected through (1) family assessments; (2) caseworkers' clinical assessments of children and families; and (3) caseworker discussions. Data for the Washoe County impact evaluation will be collected through family assessments.

Respondents: Families (parents, or permanent or foster caregivers; children), caseworkers, supervisors, service providers, and key informants such as grantee project directors, data managers, and representatives of partner agencies.

Annual Burden Estimates
Instrument | Annual number of respondents | Number of responses per respondent | Average burden hours per response | Total annual burden hours
CROSS-SITE IMPLEMENTATION STUDY:
Survey of Organization/System Readiness | 60 | 1 | 0.3 | 18
Implementation Drivers Web Survey | 150 | 2 | 0.8 | 240
Grantee Case Study Protocol | 30 | 4 | 2.0 | 240
Fidelity Data (Implementation Quotient Tracker) | 2 | 8 | 1.5 | 24
Cross-Site Estimated Total | — | — | — | 522
KANSAS:
Caregiver Initial Information Form | 300 | 1 | 0.1 | 30
Family Assessment Battery | 300 | 3 | 1.5 | 1350
CAFAS/PECFAS | 4 | 150 | 1.0 | 600
Caseworker Discussions for NCFAS-G&R Completion | 4 | 150 | 0.5 | 300
Kansas Estimated Total | — | — | — | 2280
WASHOE COUNTY:
Family Assessment Battery | 175 | 2 | 1.5 | 525
Washoe Estimated Total | — | — | — | 525

Estimated Total Annual Burden Hours: 3327.

Additional Information:Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration, for Children and Families.

Steven M. Hanmer,
OPRE Reports Clearance Officer.

[FR Doc. 2012-10848 Filed 5-7-12; 8:45 am]

BILLING CODE 4184-01-M